DEPARTMENT OF JUSTICE

Antitrust Division

Notice Pursuant to the National Cooperative Research and Production Act of 1993—Alliance for OpenUSD Series LLC

Notice is hereby given that, on April 25, 2024, pursuant to section 6(a) of the National Cooperative Research and Production Act of 1993, 15 U.S.C. 4301 et seq. (“the Act”), Alliance for OpenUSD Series LLC (“AOUSD”) has filed written notifications simultaneously with the Attorney General and the Federal Trade Commission disclosing additions or changes to its standards development activities. The notifications were filed for the purpose of extending the Act's provisions limiting the recovery of antitrust plaintiffs to actual damages under specified circumstances. Specifically, AOUSD has formed two additional Working Groups (“WGs”) in March 2024: a Materials WG and a Geometry WG. The Materials WG will standardize the description of materials in OpenUSD. Its initial focus and first deliverable will be the USD Material Interchange Specification, which will comprise a set of patterns and BSDF nodes comprising the MaterialX standard libraries. The Geometry WG will define and evolve the strategy for the description of 3D geometry in OpenUSD. Its first deliverable will be the USD Transformable 3D Geometry Specification that will describe the surfaces and volume representations, spatial transformations, rules of determining primary visibility, and other properties required for imaging those representations.

On October 30, 2023, AOUSD filed its original notification pursuant to section 6(a) of the Act. The Department of Justice published a notice in the Federal Register pursuant to section 6(b) of the Act on December 15, 2023 (88 FR 86939).

Suzanne Morris,
Deputy Director, Civil Enforcement Operations, Antitrust Division.

[FR Doc. 2024-13636 Filed 6-20-24; 8:45 am]

BILLING CODE P